DEPARTMENT OF HEALTH AND HUMAN SERVICES

Health Resources and Services Administration

Agency Information Collection Activities: Proposed Collection; Comment Request

In compliance with the requirement for the opportunity for public comment on proposed data collection projects (section 3506(c)(2)(A) of title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer at (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Ryan White Comprehensive AIDS Resources Emergency (CARE) Act: CARE Act Data Report (CADR) Form: Extension (OMB No. 0915-0253)

The CARE Act Data Report (CADR) form, created in 1999 by the HIV/AIDS Bureau of the Health Resources and Services Administration (HRSA), is designed to collect information from grantees, as well as their subcontracted service providers, funded under titles I, II, III and IV of the Ryan White (CARE) Act of 1990, as amended by the Ryan White CARE Act Amendments of 1996 and 2000 (codified under title XXVI of the Public Health Services Act). All titles of the CARE Act specify HRSA's responsibilities in the administration of grant funds, the allocation of funds, the evaluation of programs for the population served, and the improvement of the quantity and quality of care. Accurate records of the providers receiving CARE Act funding, the services provided, and the clients served continue to be critical to the implementation of the legislation and thus are necessary for HRSA to fulfill its responsibilities.

CARE Act grantees are required to report aggregate data to HRSA annually. The CADR form is used by grantees and their subcontracted service providers to report data on six different areas: service provider information, client information, services provided/clients served, demographic information, AIDS Pharmaceutical Assistance and AIDS Drug Assistance Program, and the Health Insurance Program. The primary purposes of the CADR are to: (1) Characterize the organizations from which clients receive services; (2) provide information on the number and characteristics of clients who receive CARE Act services; and (3) enable HAB to describe the type and amount of services a client receives. In addition to meeting the goal of accountability to Congress, clients, advocacy groups, and the general public, information collected on the CADR is critical for HRSA, State and local grantees, and individual providers to assess the status of existing HIV-related service delivery systems.

The estimated response burden for CARE Act grantees is estimated as:

Title under which grantee is funded | Estimated number of grantees | Estimated (median) number of providers | Estimated hours to coordinate receipt of data reports from providers | Estimated total hour burden for grantees
Title I only | 51 | 107 | 40 | 2,040
Title II only | 59 | 112 | 40 | 2,360
Title III only | 337 | 1 | 8 | 2,696
Title IV only | 90 | 1 | 16 | 1,440
Total | 537 |  |  | 8,536

The estimated response burden for service providers is estimated as:

Title under which provider is funded | Estimated number of provider respondents | Estimated responses per provider | Estimated hours per response | Estimated total hour burden
Title I only | 1,175 | 1 | 24 | 28,200
Title II only | 995 | 1 | 24 | 23,880
Title III only | 248 | 1 | 40 | 4,800
Title IV only | 98 | 1 | 40 | 3,920
Funded under multiple titles | 394 | 1 | 40 | 15,760
Total | 2,782 |  |  | 76,560

Send comments to Susan G. Queen, Ph.D., HRSA Reports Clearance Officer, Room 14-33, Parklawn Building, 5600 Fishers Lane, Rockville, MD 20857. Written comments should be received within 60 days of this notice.

Dated: April 21, 2003.
Jane M. Harrison,
Director, Division of Policy Review and Coordination.

[FR Doc. 03-10295 Filed 4-25-03; 8:45 am]

BILLING CODE 4165-15-P